DEPARTMENT OF ENERGY

Federal Energy Regulatory Commission

[Project No. 5679-041]

Energy Stream, LLC; Notice of Intent To Prepare an Environmental Assessment

On July 15, 2022, Energy Stream, LLC filed an application for a subsequent license for the 512-kilowatt M.S.C. Hydroelectric Project (M.S.C. Project or project; FERC No. 5679). The M.S.C. Project is located on the Quinebaug River, in Windham County, Connecticut.

In accordance with the Commission's regulations, on November 14, 2023, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the M.S.C. Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | July 2024.¹
Comments on EA | August 2024.

Questions regarding this notice may be directed to John Baummer at (202) 502-6837 or john.baummer@ferc.gov.

¹ The Council on Environmental Quality's (CEQ) regulations under 40 CFR 1501.10(b)(1)(2022) require that EAs be completed within 1 year of the federal action agency's decision to prepare an EA. This notice establishes the Commission's intent to prepare an EA for the M.S.C. Project. See National Environmental Policy Act, 42 U.S.C. 4321 et seq., as amended by section 107(g)(1)(B)(iii) of the Fiscal Responsibility Act of 2023, Public Law 118-5, section 4336a, 137 Stat. 42.

Dated: January 26, 2024.
Debbie-Anne Reese,
Acting Secretary.

[FR Doc. 2024-02027 Filed 1-31-24; 8:45 am]

BILLING CODE 6717-01-P